DEPARTMENT OF THE INTERIOR

National Park Service

30 Day Federal Register Notice of Submission of Network to Freedom Application Package to Office of Management and Budget; Opportunity for Public Comment

AGENCY: Department of the Interior; National Park Service; and National Underground Railroad Network to Freedom Program.

ACTION: Notice and request for comments.

ABSTRACT: Public Law 105-203 authorizes the National Underground Railroad Network to Freedom Program (NURNFP) to develop and administer the Network to Freedom, a nationwide collection of governmental and nongovernmental properties facilities, and programs associated with the historic Underground Railroad movement. The NURNFP is developing an application process through which associated elements can be included in the Network to Freedom. The information collection will (a) verify associations to the Underground Railroad, (b) measure minimum levels of standards for inclusion in the Network, and (c) identify general element activities.

SUMMARY: Under the provisions of the Paperwork Reduction Act of 1995 and 5 CFR parts 1320, Reporting and Record Keeping Requirements, the NPS invites public comment on the proposed information collection request (ICR). Comments are invited on: (1) The need for the information including whether the information has practical utility, (2) the accuracy of the reporting burden estimate; (3) ways to enhance the quality, utility, and clarity of the information to be collected, and (4) ways to minimize the burden of the information collection on respondents, including the use of automated collection techniques or other forms of information technology. The purpose of the proposed ICR is to evaluate sites, facilities, and programs that are applying for inclusion in the Underground Railroad Network to Freedom. The information will be used by the National Park Service to determine if sites, facilities, and programs seeking inclusion in the Network to Freedom meet the minimum elements criteria.

There were no public comments received as a result of publishing in the Federal Register a 60 day notice of intention to request clearance of information collection for this survey.

DATES: Public comments will be accepted on or before November 15, 2000.

SEND COMMENTS TO: The Office of Information and Regulatory Affairs of OMB, Attention Desk Officer for the Interior Department, Office of Management and Budget, Washington, D.C. 20530. Please also send comments to Diane Miller, National Coordinator, Underground Railroad Network to Freedom Program, National Park Service, Midwest Regional Office, 1709 Jackson St., Omaha, Nebraska 68102.

Public comments, including names and addresses of respondents, may be made available for public review. Individual respondents may request that their address be withheld from the public comment record. This will be honored to the extent allowable by law. There also may be circumstances in which a respondent's identity would be withheld from the public comment record, as allowable by law. If you wish to withhold your name and/or address, you must stat this prominently at the beginning of your comment. Anonymous comments will not be considered. Comments from organizations or businesses, and from individuals or businesses may be made available for public inspection in their entirety.

Copies of the proposed ICR requirements can be obtained from Diane Miller, National Coordinator, Underground Railroad Network to Freedom Program, National Park Service, Midwest Regional Office, 1709 Jackson St., Omaha, Nebraska 68102.

The OMB has up to 60 days to approve or disapprove the information collection but may respond after 30 days. Therefore, to ensure maximum consideration, OMB should receive comments 30 days from the date of publication in the Federal Register.

FOR FURTHER INFORMATION OR A COPY OF THE STUDY PACKAGE SUBMITTED FOR OMB REVIEW, CONTACT: Diane Miller, phone: 402-221-3749, or Aaron Mahr, 505-988-6736.

SUPPLEMENTARY INFORMATION: Title: Underground Railroad Network to Freedom Application.

Form Number: Not applicable.

OMB Number: To be assigned.

Expiration Date: To be assigned.

Type of Request: Request for new clearance.

Description of Need: The National Underground Railroad Network to Freedom Program is identifying guidelines and criteria for associated elements to enter the Network to Freedom. The Application documents sites, facilities, and programs, and demonstrates that they meet the criteria established for inclusion. The documentation will be incorporated into a database that will be available to the general public for information purposes.

The proposed information to be collected regarding these sites, facilities, or programs is not available from existing records, sources, or observations.

Automated Data Collection: Respondents must verify associations and characteristics through descriptive texts that are the result of historical research. Evaluations are based on subjective analysis of the information provided. At the present time there is no automated way to gather this information.

Description of Respondents: The affected public is state, tribal, and local governments, federal agencies, businesses, non-profit organizations, and individuals, throughout the United States. Applications to the Network to Freedom are voluntary.

Estimated Average Number of Respondents: 100.

Estimated Average Number of Responses: Each respondent will respond only one time, so the numbers of responses will be the same as the number of respondents.

Estimated Average Burden Hours per Response: 10 hours.

Frequency of Response: One time per respondent.

Estimated Annual Reporting Burden: 1000 hours.

Leonard E. Stowe, Information Collections Clearance Officer, WASO Administrative Program Center, National Park Service.

Dated: September 29, 2000.
Betsy Chittenden,
Acting Manager, Administrative Program Center, WASO, NPS.

[FR Doc. 00-26442 Filed 10-13-00; 8:45 am]

BILLING CODE 4310-70-M